SECURITIES AND EXCHANGE COMMISSION

Sunshine Act Meetings

Notice is hereby given, pursuant to the provisions of the Government in the Sunshine Act, Public Law 94-409, that the Securities and Exchange Commission will hold the following meetings during the week of November 11, 2002:

An Open Meeting will be held on Wednesday, November 13, 2002, at 10 a.m., in Room 1C30, the William O. Douglas Room, and a Closed Meeting will be held on Thursday, November 14, 2002, at 10 a.m.

Commissioner Atkins, as duty officer, determined that no earlier notice thereof was possible.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(3), (5), (7), (9)(B) and (10) and 17 CFR 200.402(a)(3), (5), (7), (9)(ii) and (10), permit consideration of the scheduled matters at the closed meeting.

The subject matter of the open meeting scheduled for Wednesday, November 13, 2002 will be:

1. The Commission will consider whether to adopt proposed amendments to Form N-4, the registration form for insurance company separate accounts that are registered as unit investment trusts and that offer variable annuity contracts. The amendments would revise the format of the fee table of Form N-4 to require disclosure of the range of total expenses for all of the mutual funds offered through the separate account, rather than disclosure of the expenses of each fund. The Commission will also consider whether to adopt an amendment to the fee table of Form N-6, the registration form for variable life insurance policies that would require disclosure of the range of total expenses for all of the mutual funds offered, consistent with the amendments to the fee table of Form N-4.

2. The Commission will consider whether to propose for comment an amendment to Securities Exchange Act of 1934 (“Exchange Act”) Rule 17a-5(c) that would codify relief the Commission granted in a pilot program that exempted broker-dealers from the requirement of Exchange Act Section 17(e)(1)(B) and Rule 17a-5(c) thereunder to send their full balance sheet and certain net capital information to their customers twice a year. To take advantage of the exemption, a broker-dealer must send its customers the net capital information and must provide its customers instructions for obtaining its full balance sheet on its Web site and by request to a toll-free telephone number. The Commission will also consider whether to extend interim relief for three months, to March 31, 2003. The Commission granted the relief as a two-year pilot program ending December 31, 2001 (Exchange Act Release No. 42222, December 10, 1999) and then extended the program for one year, to December 31, 2002 (Exchange Act Release No. 45179, December 20, 2001).

The subject matter of the Closed Meeting scheduled for Thursday, November 14, 2002 will be:

Formal order of investigation;

Institution and settlement of administrative proceedings of an enforcement nature; and

Institution and settlement of injunctive actions.

At times, changes in Commission priorities require alterations in the scheduling of meeting items. For further information and to ascertain what, if any, matters have been added, deleted or postponed, please contact:

The Office of the Secretary at (202) 942-7070.

Dated: November 7, 2002.
Margaret H. McFarland,
Deputy Secretary.

[FR Doc. 02-28806 Filed 11-7-02; 8:45 am]

BILLING CODE 8010-01-M